DEPARTMENT OF JUSTICE

Antitrust Division

Notice Pursuant to the National Cooperative Research and Production Act of 1993—Open Devicenet Vendor Association, Inc.

Notice is hereby given that, on September 1, 2005, pursuant to section 6(a) of the National Cooperative Research and Production Act of 1993, 15 U.S.C. 4301 et seq. (“the Act”), Open DeviceNet Vendor Association, Inc. (“ODVA”) has filed written notifications simultaneously with the Attorney General and the Federal Trade Commission disclosing changes in its membership. The notifications were filed for the purpose of extending the Act's provisions limiting recovery of antitrust plaintiffs to actual damages under specified circumstances. Specifically, National Semiconductor Corporation, Santa Clara, CA; Siemens Energy & Automation, Inc., Alpharetta, GA; Wizardry Inc., Gardnerville, NV; Bihl+Wiedemann GmbH, Mannheim, Germany; Ametek, Inc., Paoli, PA; Spyder Controls Corporation, Lacombe, Alberta, Canada; and Keyence Corporation, Osaka, Japan have been added as parties to this venture.

Also, Jeongil Intercom Co., Ltd., Kyunggi-do, Republic of Korea; Embedded Systems Korea, Seoul, Republic of Korea; Agilicom, Tours, France; and Micro Mo Electronics, Inc., Clearwater, FL have withdrawn as parties to this venture. The following member has changed its name: Max Stegmann GmbH to Sick Stegmann GmbH, Donaueschingen, Germany.

No other changes have been made in either the membership or planned activity of the group research project. Membership in this group research project remains open, and ODVA intends to file additional written notification disclosing all changes in membership.

On June 21, 1995, ODVA filed its original notification pursuant to Section 6(a) of the Act. The Department of Justice published a notice in the Federal Register pursuant to section 6(b) of the Act on February 15, 1996 (61 FR 6039).

The last notification was filed with the Department on May 18, 2005. A notice was published in the Federal Register pursuant to section 6(b) of the Act on June 13, 2005 (70 FR 34151).

Dorothy B. Fountain,
Deputy Director of Operations, Antitrust Division.

[FR Doc. 05-19008 Filed 9-12-05; 8:45 am]

BILLING CODE 4410-11-M